DEPARTMENT OF EDUCATION

[CFDA No.: 84.133F]

National Institute on Disability and Rehabilitation Research Notice Inviting Applications for New Awards for Research Fellowships for Fiscal Year 2001

Office of Special Education and Rehabilitative Services

Note to Applicants: This notice is a complete application package. Together with the statute authorizing the program and applicable regulations governing the program, including the Education Department General Administrative Regulations (EDGAR), this notice contains information, application forms, and instructions needed to apply for a grant under this competition.

This program supports the National Education Goal that calls for all Americans to possess the knowledge and skills necessary to compete in a global economy and exercise the rights and responsibilities of citizenship.

The estimated funding levels in this notice do not bind the Department of Education (ED) to make awards in any of these categories, or to any specific number of awards or funding levels, unless otherwise specified in statute.

Applicable Regulations

The Education Department General Administrative Regulations (EDGAR), 34 CFR Parts 74, 75, 77, 80, 81, 82, 85, and 86; and the following program regulation: Research Fellowships—34 CFR Part 356.

Note: Applicants answering “Yes” to item 12 on form ED 424 whose research activities are nonexempt must complete the six point narrative on protection of human subjects described in the Attachment to form ED 424. If your project does include research activities that are subject to ED's Protection of Human Subjects Regulations, ED cannot make the award until the human subjects requirements for your grant have been met. Helene Deramond, ED Human Subjects Protection Coordinator for “human subjects” clearance can tell you about the requirements and she is available to help you through the process. She can be reached on (202) 260-5353 or at Helene_Deramond@ed.gov Additional information can be found at http://ocfo.ed.gov/humansub.htm. Note: Applicants need to put their Social Security Number in Block #2 on the 424 form in place of the DUNS Number.

Deadline for Transmittal of Applications: October 10, 2000.

Estimated Number of Awards: 10.

Award Amount: Merit: $45,000; Distinguished: $55,000.

Note: The Secretary will reject without consideration or evaluation any application that proposes a project funding level that exceeds the stated maximum award amount (See 34 CFR 75.104(b)).

Project Period: 12 months.

Eligible Applicants: Only individuals are eligible to be recipients of Fellowships. Institutions are not eligible to be recipients of Fellowships.

Program Title: Research Fellowships.

CFDA Number: 84.133F.

Purpose: The purpose of the Research Fellowship program is to build research capacity by providing support to highly qualified individuals, including those who are individuals with disabilities, to perform research on the rehabilitation of individuals with disabilities. Fellows may conduct original research in any area authorized by section 204 of the Rehabilitation Act of 1973, as amended. Fellows may address problems encountered by individuals with disabilities in their daily lives that are due to the presence of a disabling condition, problems associated with the provision of rehabilitation services to individuals with disabilities, and problems connected with the conduct of disability research.

The program provides two categories of Fellowships: Merit Fellowships and Distinguished Fellowships. (1) To be eligible for a Distinguished Fellowship, an individual must have seven or more years of research experience in subject areas, methods, or techniques relevant to rehabilitation research and must have a doctorate, other terminal degree, or comparable academic qualifications. (2) To be eligible for a Merit Fellowship, an individual must have either advanced professional training or experience in independent study in an area which is directly pertinent to disability and rehabilitation.

The Fellowship awards are for a period of twelve months. Applicants are not required to submit budget proposals. These are one full FTE; the applicant must work principally on the fellowship during the year. The applicant cannot be on any other government grants. We define one full FTE as equal to 40 hours per week.

Selection Criteria: The Secretary evaluates applications for Fellowships according to the following criteria in 34 CFR 356.30.

(a) Quality and level of formal education, previous work experience, and recommendations of present or former supervisors or colleagues that include an indication of the applicant's ability to work creatively in scientific research; and

(b) The quality of a research proposal of no more than 24 double spaced pages containing the following information:

(1) The importance of the problem to be investigated to the purpose of the Act and the mission of the National Institute on Disability and Rehabilitation Research (NIDRR).

(2) The research hypotheses or related objectives and the methodology and design to be followed.

(3) Assurance of the availability of any necessary data resources, equipment, or institutional support, including technical consultation and support where appropriate, required to carry out the proposed activity.

The application should include an abstract, a project narrative, vitae of the applicant, and letters of support or recommendation. Any letters of recommendation received separately from the application will not be forwarded to the reviewers. If the applicant proposes to use unique tests or other measurement instruments that are not widely known in the field, it would be helpful to include the instrument in the application. Many applications contain voluminous appendices that are not helpful and in many cases cannot even be mailed to the reviewers. It is generally not helpful to include such things as brochures, general capability statements of collaborating organizations, maps, copies of publications, or descriptions of other projects completed by the applicant.

Instructions for Application Narrative

You must include a one-page abstract of the application narrative.

Strict Page Limits

The application narrative of a research proposal for a Fellowship must be limited to the equivalent of no more than 24 pages using the following standards:

(1) Use 8.5 × 11″ pages (on one side only) with one-inch margins (top, bottom, and sides);

(2) Double-space (no more than 3 lines per vertical inch) all sections of text; and

(3) Use no smaller than a 12-point font, and an average character density no greater than 14 characters per inch.

The application narrative page limit does not apply to: the forms—Application for Federal Education Assistance (ED 424), Assurances—Non-Construction Programs(SF (SF 424B and the Certifications (ED 80-0013); the one-page abstract; resumes; bibliography or letters of support; or the information on the Protection of Human Subjects.

The standards for double-spacing and font do not apply within charts, tables, figures, and graphs, but the information presented in those formats should be easily readable.

We will reject without consideration or evaluation any application if—

• You apply these standards and exceed the page limit; or

• You apply other standards and exceed the equivalent of the page limit.

Instructions for Transmittal of Applications

(a) If an applicant wants to apply for a grant, the applicant must—

(1) Mail the original and two copies of the application on or before the deadline date to: U.S. Department of Education, Application Control Center, Attention: (CFDA 84.133F), Washington, D.C. 20202-4725, or

(2) Hand deliver express mail the original and two copies of the application by 4:30 p.m. [Washington, D.C. time] on the deadline date to: U.S. Department of Education, Application Control Center, Attention: (CFDA 84.133F), Room #3633, Regional Office Building #3, 7th and D Streets, S.W., Washington, D.C. 20202.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Notes: (1) The U.S. Postal Service does not uniformly provide a dated postmark. Before relying on this method, an applicant should check with its local post office.

(2) An applicant wishing to know that its application has been received by the Department must include with the application a stamped self-addressed postcard containing the CFDA number and title of this program.

(3) The applicant must indicate on the envelope and—if not provided by the Department—in Item 10 of the Application for Federal Assistance (Standard Form 424) the CFDA number—and letter (84.133F).

Application Forms and Instructions

The appendix to this application is divided into three parts. These parts are organized in the same manner that the submitted application should be organized as follows:

Part I: Application for Federal Assistance (Standard Form 424 (Rev. 1/12/99)) and instructions.

Part II: Application Narrative.

Part III: Additional Materials

Estimated Public Reporting Burden.

Assurances—Non-Construction Programs (Standard Form 424B).

Certification Regarding Lobbying, Debarment, Suspension, and Other Responsibility Matters: and Drug-Free Work-Place Requirements (ED Form 80-0013).

Certification of Eligibility for Federal Assistance in Certain Programs (ED Form 80-0016).

An applicant may submit information on a photostatic copy of the application, the assurances, and the certifications. However, the application form, the assurances, and the certifications must each have an original signature. The applicant fellow is the certifying official.

For Applications Contact: The Grants and Contracts Service completed application form has been received. Team, U.S. Department of Education, 400 Maryland Avenue S.W., room 3317, Switzer Building, Washington, D.C. 20202, or call (202) 205-8207. Individuals who use a telecommunications device for the deaf (TDD) may call the TDD number at (202) 205-9860. The preferred method for requesting information is to FAX your request to (202) 205-8717.

FOR FURTHER INFORMATION CONTACT: Kym Butler, U.S. Department of Education, 400 Maryland Avenue, S.W., room 3414, Switzer Building, Washington, D.C. 20202-2645. Telephone: (202) 205-9250. Individuals who use a telecommunications device for the deaf (TDD) may call the TDD number at (202) 205-4475. Internet: Kym_Butler@ed.gov or Donna Nangle, either by telephone: (202) 205-5880 or Internet at Donna_Nangle@ed.gov.

Individuals with disabilities may obtain this document in an alternative format (e.g., Braille, large print, or computer diskette) on request to the contact person listed in the preceding paragraph.

Electronic Access To this Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the preceding sites. If you have questions about using the PDF, call the U.S. Government Printing Office (GPO), toll free, at 1-888-293-6498; or in the Washington, DC., area at (202) 512-1530.

Note: The official version of this document is the document published in the Federal Register. Free Internet access to the official edition of the Federal Register and the Code of Federal Regulations is available on GPO access at: http://www.access.gpo.gov/nara/index.html.

Program Authority: 29 U.S.C. 762.

Dated: August 2, 2000.
Judith E. Heumann,
Assistant Secretary for Special Education and Rehabilitative Services.

Appendix

Application Forms and Instructions

Applicants are advised to reproduce and complete the application forms in this Section. Applicants are required to submit an original and two copies of each application as provided in this Section.

Frequent Questions

1. Can I Get An Extension of the Due Date?

No. On rare occasions the Department of Education may extend a closing date for all applicants. If that occurs, a notice of the revised due date is published in the Federal Register. However, there are no extensions or exceptions to the due date made for individual applicants.

2. What Format Should Be Used for the Application?

NIDRR generally advises applicants that they may organize the application to follow the selection criteria that will be used.

3. What Is the Allowable Indirect Cost Rate?

Fellowship awards are made to individuals, therefore indirect cost rates do not apply.

4. Can Individuals Apply for Grants?

Individuals are the only entities eligible to apply for fellowships.

5. Can NIDRR Staff Advise Me Whether My Project Is of Interest to NIDRR or Likely To Be Funded?

No. NIDRR staff can advise you of the requirements of the program in which you propose to submit your application. However, staff cannot advise you of whether your subject area or proposed approach is likely to receive approval.

6. How Do I Assure That My Application Will Be Referred to the Most Appropriate Panel for Review?

Applicants should be sure that their applications are referred to the correct competition by clearly including the competition title and CFDA number, including alphabetical code, on the Standard Form 424, and including a project title that describes the project.

7. How Soon After Submitting My Application Can I Find Out if It Will Be Funded?

The time from closing date to grant award date varies from program to program. Generally speaking, NIDRR endeavors to have awards made within five to six months of the closing date. Unsuccessful applicants generally will be notified within that time frame as well. For the purpose of estimating a project start date, the applicant should estimate approximately six months from the closing date, but no later than the following September 30.

8. Can I Call NIDRR To Find Out if My Application Is Being Funded?

No. When NIDRR is able to release information on the status of grant applications, it will notify applicants by letter. The results of the peer review cannot be released except through this formal notification.

9. Will All Approved Applications Be Funded?

No. It often happens that the peer review panels approve for funding more applications than NIDRR can fund within available resources. Applicants who are approved but not funded are encouraged to consider submitting similar applications in future competitions.

BILLING CODE 4000-01-P

[FR Doc. 00-19959 Filed 8-7-00; 8:45 am]

BILLING CODE 4000-01-C